DEPARTMENT OF DEFENSE

Department of the Army, Corps of Engineers

Notice of Intent To Prepare an Environmental Impact Statement (EIS) for the John Redmond Lake Reallocation Study, Kansas

AGENCY: U.S. Army Corps of Engineers, Department of Defense.

ACTION: Notice of intent.

SUMMARY: The purpose of the EIS is to address alternatives and impacts pertaining to reallocation of water storage at John Redmond Lake, Kansas.

FOR FURTHER INFORMATION CONTACT: Questions or comments concerning the proposed action should be addressed to Mr. David L. Combs, Chief, Environmental Analysis and Compliance Branch, 1645 South 101st East Avenue, Tulsa, Oklahoma 74128-4629, telephone 918-669-7660, e-mail: David L. Combs@usace.army.mil.

SUPPLEMENTARY INFORMATION: John Redmond Lake was authorized by the Flood Control Act approved May 17, 1950, Public Law 81-516a; Project Document HD 442, 80th Congress, 2d Session. Public Law 85-327, dated February 15, 1958, changed the project name from Strawn Dam to John Redmond Dam and Reservoir. It is located on the Grand (Neosho) River at river mile 343.7, about 3 miles northwest of Burlington in Coffey County, Kansas. Project purposes include flood control, water supply, water quality, and recreation. Closure of the embankment was completed in September 1963 and the project was completed for full flood control operation in September 1964.

In 1975, the state of Kansas and the Federal government entered into a water supply agreement for an estimated 34,900 acre-feet of storage remaining after 50 years of sedimentation. After the agreement was signed, it was determined that sediment was entering the lake unevenly from what had been predicted. Over time, sedimentation in the lake has changed the amount of storage the lake has for flood control, water supply and other purposes. Storage available for water supply purposes in the lake has been depleted by sediment distribution such that the water supply agreement obligations are being infringed upon.

Most of the sediment deposited in the lake pool has been below elevation 1039.0 (top of conservation pool), National Geodetic Vertical Datum (NGVD). Based on the Corps sediment surveys for 1964-1993, it was predicted that adequate storage would be available below elevation 1068.0 feet NGVD (top of flood control pool) at the end of the economic life of the project (Year 2014) to meet all authorized project purposes. However, the top of the conservation pool should ultimately be established at a higher elevation to reapportion equitably the storage between the conservation and flood control pools.

When a lake is designed, each pool (flood control, conservation, sediment) is designed to capture a proportionate amount of sediment. In the case of John Redmond, the sediment load has been as predicted; however, the sediment is accumulating in the conservation pool while the flood control pool has experienced less than expected sedimentation losses.

The reallocation study and EIS will focus on ways to accommodate for the uneven distribution of sediment within the lake and evaluate a number of alternatives. Alternatives presently identified include the no action plan, which follows the current operational practices and another alternative to raise the lake's conservation pool to accommodate for sediment buildup. This alternative includes a 2-foot pool rise with the intentions of raising the conservation pool to elevation 1040.0 feet NGVD and using a phased pool raise of the remaining one-foot, in one-half foot pool increments.

The EIS will evaluate the effects of alternatives on the authorized project purposes and other identified concerns. Significant issues to be addressed in the EIS include: (1) potential impacts to the Flint Hills National Wildlife Refuge; (2) impacts on recreation and recreation facilities; (3) impacts on structure of the dam; (4) impacts on fish and wildlife resources within and also above and below the lake; (5) impacts on downstream flows on the Neosho River; and (6) other impacts identified by the public, agencies, or Corps studies.

Scoping meetings for the project are planned to be conducted in March and April 2000. News releases informing the public and local, state, and Federal agencies of the proposed action will be published in local newspapers. Comments received as a result of this notice and the news releases will be used to assist the Tulsa District in identifying potential impacts to the quality of the human or natural environment. Affected local, state, or Federal agencies, affected Indian tribes, and other interested private organizations and parties may participate in the Scoping process by forwarding written comments to the above noted address or attending Scoping meetings.

The draft EIS (DEIS) is expected to be available for public review and comment by September 2001. Any comments and suggestions should be forwarded to the above noted address no later than June 1, 2000, to be considered in the DEIS.

Dated: March 27, 2000.
Leonardo V. Flor,
Colonel, U.S. Army District Engineer.

[FR Doc. 00-8674 Filed 4-6-00; 8:45 am]

BILLING CODE 3710-39-M